ENVIRONMENTAL PROTECTION AGENCY

[FRL-8703-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1189.20; Identification, Listing and Rulemaking Petitions (Renewal); in 40 CFR 261.2(a)(2)ii, 261.4(a)23-261.4(a)25 and 260.34; was approved 07/03/2008; OMB Number 2050-0053; expires 07/31/2011.

EPA ICR Number 1051.10; NSPS for Portland Cement Plants (Renewal); in 40 CFR part 60, subpart F; was approved 07/07/2008; OMB Number 2060-0025; expires 07/31/2011.

EPA ICR Number 1488.07; Superfund Site Evaluation and Hazard Ranking System (Renewal); in 40 CFR 300.425 and 40 CFR part 300, appendix A; was approved 07/07/2008; OMB Number 2050-0095; expires 07/31/2011.

EPA ICR Number 1947.04; NESHAP for Solvent Extraction for Vegetable Oil Production (Renewal); in 40 CFR part 63, subpart GGGG; was approved 07/09/2008; OMB Number 2060-0471; expires 07/31/2011.

EPA ICR Number 0155.09; Certification of Pesticide Applicators (Renewal); in 40 CFR parts 152 and 171; was approved 07/09/2008; OMB Number 2070-0029; expires 07/31/2011.

EPA ICR Number 1230.21; Prevention of Significant Deterioration and New Source Review (Final Rule for Implementation the NSR Program for PM 2.5); in 40 CFR 51.21, 51.160-51.166 and 40 CFR part 51, appendix S; was approved 07/15/2008; OMB Number 2060-0003; expires 10/31/2008.

EPA ICR Number 2002.04; Cross-Media Electronic Reporting and Recordkeeping Rule (Renewal); in 40 CFR 3.1 and 3.2; was approved 07/16/2008; OMB Number 2025-0003; expires 07/31/2011.

EPA ICR Number 1684.11; Information Requirements for Nonroad and On-Highway Heavy-Duty Engines (Final Rule for Locomotive and Marine Engines); in 40 CFR part 1042, subparts C, D, G and H; was approved 07/16/2008; OMB Number 2060-0287; expires 07/31/2009.

EPA ICR Number 1284.08; NSPS for Polymeric Coating of Supporting Substrates Facilities (Renewal); in 40 CFR part 60, subpart VVV; was approved 07/16/2008; OMB Number 2060-0181; expires 07/31/2011.

EPA ICR Number 1352.11; Community Right-to-Know Reporting Requirements Under Sections 311 and 312 of the Emergency Planning and Community Right-to-Know Act (EPCRA) (Renewal); in 40 CFR part 370; was approved 07/16/2008; OMB Number 2050-0072; expires 07/31/2011.

EPA ICR Number 1425.07; Application for Reimbursement to Local Governments for Emergency Response to Hazardous Substance Releases Under CERCLA section 123 (Renewal); in 40 CFR part 310; was approved 07/16/2008; OMB Number 2060-0077; expires 07/31/2011.

EPA ICR Number 2277.02; NESHAP for Area Sources: Electric Arc Furnace Steelmaking Facilities (Final Rule); in 40 CFR part 63, subpart YYYYY; was approved 07/16/2008; OMB Number 2060-0608; expires 07/31/2011.

EPA ICR Number 1679.06; NESHAP for Marine Tank Vessel Loading Operations (Renewal); in 40 CFR part 63, subpart Y; was approved 07/22/2008; OMB Number 2060-0289; expires 07/31/2011.

EPA ICR Number 1463.07; National Oil and Hazardous Substances Pollution Contingency Plan (NCP) (Renewal); in 40 CFR parts 430-435; was approved 07/22/2008; OMB Number 2050-0096; expires 07/31/2011.

EPA ICR Number 2292.01; Determine Percentage of High Evaporative Emission Vehicles in On-Road Fleet; was approved 07/23/2008; OMB Number 2060-0615; expires 07/31/2010.

EPA ICR Number 2248.03; Applicant Background Questionnaire: Race, National Origin, Gender and Disability Demographics (Renewal); in 29 CFR 1614.601; was approved 07/28/2008; OMB Number 2030-0045; expires 07/31/2011.

EPA ICR Number 0107.09; Source Compliance and State Action Reporting (Renewal); in 40 CFR part 51, subparts K and Q; was approved 07/30/2008; OMB Number 2060-0096; expires 07/31/2011.

EPA ICR Number 2286.01; Information Collection Effort for Facilities with Combustion Units; was approved 08/01/2008; OMB Number 2060-0616; expires 08/31/2011.

Disapproved

EPA ICR Number 1748.05; State Small Business Stationary Source Technical and Environmental Compliance Assistance Program Annual Reporting Form (Renewal); was disapproved 07/16/2008; OMB Number 2060-0337.

Withdrawn

EPA ICR Number 2170.02; Air Emissions Reporting Requirements (AERR) (Final Rule); was withdrawn from OMB on 07/28/2008.

Dated: August 7, 2008.
Sara Hisel-McCoy,
Director, Collection Strategies Division.

[FR Doc. E8-18736 Filed 8-12-08; 8:45 am]

BILLING CODE 6560-50-P